DEPARTMENT OF TRANSPORTATION

Federal Aviation Administration

[Policy Statement No. ANE-1998-33.69-R1]

Policy for Evaluating Ignitions System Requirements

AGENCY: Federal Aviation Administration, DOT

ACTION: Notice of availability, policy statement.

SUMMARY: The Federal Aviation Administration (FAA) announced the availability of policy for evaluating compliance with the airworthiness certification standards for ignition systems on turbine powered aircraft engines. This policy revises the previous policy to include derivative engine models with significant service experience.

DATES: The FAA issued policy statement number ANE-1998-33.69-R1 on February 26, 2001.

FOR FURTHER INFORMATION CONTACT: John Fisher, FAA, Engine and Propeller Standards Staff, ANE-110, 12 New England Executive Park, Burlington, MA 01803; e-mail: <john.fisher@faa.gov>; telephone: (781) 238-7149; fax: (781) 238-7199. The policy statement is available on the Internet at the following address: http://www.faa.gov/avr/air/ane/ane110/page.htm. If you do not have access to the Internet, you may request a copy of the policy by contacting the individual listed in this section.

SUPPLEMENTARY INFORMATION: The FAA published a notice in the Federal Register on January 10, 2001 (66 FR 2043) to announce the availability of the proposed policy and invite interested parties to comment. The FAA did not receive any comments on the proposed policy before the closing date of the comment period.

Background

This policy statement supersedes FAA policy statement number 1998-33.69-R0, dated October 23, 1998. the intent of this policy is to clarify the policy regarding § 33.69 Title 14 of the Code of Federal Regulations. This policy assists the Aircraft Certification Offices (ACOs) in evaluating applications for aircraft engine type certification. The FAA has revised this policy to include guidance for evaluating derivative engine models with significant service experience. This policy does not create any new requirements.

Authority: 49 U.S.C. 106(g), 40113, 44701-44702, 44704.

Issued in Burlington, Massachusetts, on March 2, 2001.
David A. Downey,
Assistant Manager, Engine and Propeller Directorate, Aircraft Certification Service.

[FR Doc. 01-6376 Filed 3-14-01; 8:45 am]

BILLING CODE 4910-13-M